DEPARTMENT OF TRANSPORTATION

Office of the Secretary; Notice of Applications for Certificates of Public Convenience and Necessity and Foreign Air Carrier Permits Filed Under Subpart B (Formerly Subpart Q) During the Week Ending November 3, 2000

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6246.

Date Filed: November 1, 2000.

Due Date for Answers, Conforming Applications, or Motion to Modify Scope: November 22, 2000.

Description: Motion of Delta Air Lines, Inc. for leave to file and Supplement #4, pursuant to 49 U.S.C. 41102 and 41108 and Subpart B, supplementing its September 21, 1999, certificate application by adding the following points: Comoros, Cyprus, Dominica, French Guiana, French Polynesia, Lesotho, Macau, Maldives, Marshall Islands, Micronesia, Federated States of Mongolia, Palau, Qatar, St. Kitts & Nevis, St. Vincent & Grenadines, Samoa and Swaziland to the list of countries included in Exhibit A (Second Revised), attached to Supplement #3 to Delta's application, filed May 18, 2000.

Dorothy Y. Beard,
Federal Register Liaison.

[FR Doc. 02-7719 Filed 4-3-02; 8:45 am]

BILLING CODE 4910-62-P